DEPARTMENT OF HEALTH AND HUMAN SERVICES

Centers for Disease Control and Prevention

[60Day-15-0824]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

National Syndromic Surveillance Program (BioSense, OMB Control No. 0920-0824, Expiration Date 10/31/2015)—Revision—Center for Surveillance, Epidemiology and Laboratory Services (CSELS), Centers for Disease Control and Prevention (CDC).

Background and Brief Description

The BioSense Program was created by congressional mandate as part of the Public Health Security and Bioterrorism Preparedness and Response Act of 2002 and was launched by the Centers for Disease Control and Prevention (CDC) in 2003. The BioSense Program has since been expanded into the National Syndromic Surveillance Program (NSSP) to promote the use of high-quality syndromic surveillance data for improved nationwide all-hazard situational awareness for public health decision making and enhanced responses to hazardous events and outbreaks.

NSSP is a collaboration among individuals and organizations from the local, state, and federal levels of public health; other federal agencies, including the Department of Defense (DoD) and the Department of Veterans Affairs (VA); and associations of public health officials, including the Association of State and Territorial Health Officials. NSSP includes a community of practice, a stakeholder governance process, and a cloud-based syndromic surveillance platform (the NSSP platform) that hosts the BioSense application and other analytic tools and services.

Syndromic surveillance is a process that regularly and systematically uses health and health-related data in near real-time to make information on the health of a community available to public health officials. Patient encounter, laboratory, and pharmacy data from healthcare settings including emergency departments, urgent care, ambulatory care and inpatient settings provide critical information for syndromic surveillance and are used by public health agencies under authorities granted to them by applicable local and state laws.

CDC requests a three-year approval for a Revision for NSSP (BioSense, OMB Control No. 0920-0824, Expiration Date 10/31/2015). With this revision, CDC also requests the following collection title: National Syndromic Surveillance Program (NSSP). The NSSP will continue to receive and processes four different types of information: (1) Contact information for state and local public health officials who wish to have data from their jurisdictions submitted to NSSP (recruitment data); (2) contact information for public health officials and other new users needed to provide them with access to the NSSP Platform (registration data); (3) NSSP user information needed to determine for development of the NSSP platform and to assess the usability of the platform (user data) (since the number of respondents will not exceed nine non-federal users to assess usability, the associated burden is not applicable to this request); and (4) existing healthcare encounter, pharmacy, and laboratory data (healthcare data) without personally identifiable information (PII).

As in the past, healthcare data will continue to be submitted to NSSP by state and local health departments or hospitals in those jurisdictions, federal agencies including the VA, DoD, a national level private sector clinical laboratory, and a private sector health information exchange company.

In addition, healthcare data will be submitted from urgent care, ambulatory care and inpatient settings. The inclusion of these additional data in NNSP is consistent with the Department of Health and Human Services' criteria for the “meaningful use” by public health of electronic health records for syndromic surveillance.

There are no costs to respondents other than their time. Respondents in this data submission include state and local public health jurisdictions, federal agencies, and the private sector providers of healthcare, laboratory and pharmacy data.

Though a large number of electronic health records are transmitted to NSSP, once the automated interfaces are set up for transmission (developing the data sharing agreements), there is no burden for record transmission. The estimated annual burden is 51 hours.

Estimated Annualized Burden Hours
Type of respondents | Number of respondents | Number of responses per respondent | Average burden per response (in hours) | Total burden (in hours)
Recruitment Information Collection
State and Local Public Health Jurisdictions | 20 | 1 | 1 | 20
Federal Government | 2 | 1 | 1 | 2
Private Sector | 3 | 1 | 1 | 3
Registration Information Collection
State and Local Public Health Jurisdictions | 200 | 1 | 5/60 | 17
Federal Government | 30 | 1 | 5/60 | 3
Private Sector | 50 | 1 | 5/60 | 4
Healthcare Information Collection: Administrator Data Sharing Agreements/Permissions
State and Local Public Health Jurisdictions | 20 | 1 | 5/60 | 2
Federal Government | 2 | 0 | 5/60 | 0
Private Sector | 3 | 0 | 0 | 0
Total |  |  |  | 51

Leroy A. Richardson,
Chief, Information Collection Review Office, Office of Scientific Integrity, Office of the Associate Director for Science, Office of the Director, Centers for Disease Control and Prevention.

[FR Doc. 2015-03826 Filed 2-24-15; 8:45 am]

BILLING CODE 4163-18-P